NUCLEAR REGULATORY COMMISSION

[Docket Nos. 50-390-CivP; 50-327 CivP; 50-328-CivP; 50-259-CivP; 50-260-CivP; 50-296-CivP; ASLBP No. 01-791-01-CivP; EA 99-234]

Atomic Safety and Licensing Board; Tennessee Valley Authority (Watts Bar Nuclear Plant, Unit 1; Sequoyah Nuclear Plant, Units 1 & 2; Browns Ferry Nuclear Plant, Units 1, 2 & 3); Evidentiary Hearing

March 25, 2002.

Before Administrative Judges: Charles Bechhoefer, Chairman, Dr. Richard F. Cole and Ann Marshall Young.

This proceeding involves a proposed civil penalty of $110,000, sought to be imposed by the NRC Staff on the Tennessee Valley Authority (TVA) for an alleged violation of NRC's employee-protection requirements set forth in 10 CFR 50.7, based upon the asserted discrimination against a former employee for engaging in protected activities. In response to an Order Imposing Civil Monetary Penalty, published at 66 FR 27,166 (May 16, 2001), TVA on June 1, 2001, filed a timely request for a hearing. On June 26, 2001, an Atomic Safety and Licensing Board, consisting of Dr. Richard F. Cole, Ann Marshall Young, and Charles Bechhoefer, who serves as Chairman, was established to preside over this proceeding. 66 FR 34,961 (July 2, 2001).

By Memorandum and Order dated June 28, 2001, the Licensing Board granted TVA's request for a hearing and, on the same date, issued a Notice of Hearing. 66 FR 35,467-35,468 (July 5, 2001). Parties to this proceeding are TVA and the NRC Staff. As set forth in the Order Imposing Civil Monetary Penalty, 66 FR at 27,167, issues to be considered are (a) whether the Licensee violated the Commission's requirements, as set forth in the Notice of Violation and Proposed Imposition of Civil Penalty, dated February 7, 2000 (NOV); and, if so, (b) whether, on the basis of such violation, the Order Imposing Civil Monetary Penalty should be sustained.

Notice is hereby given that the evidentiary hearing in this proceeding will commence on Tuesday, April 23, 2002, at 9:30 a.m. EDT, at the United States Bankruptcy Court, Courtroom A, Historic U.S. Courthouse, 31 E. 11th St., Chattanooga, Tennessee 37402. The hearing will continue on April 24-26, 2002, beginning at 9 a.m., and, to the extent necessary, on April 30-May 9, 2002, also commencing at 9 a.m., at the same location unless otherwise announced. Members of the public are invited to attend any of these sessions. Hearings will extend until approximately 5 p.m. each day. On Friday, April 26, 2002, however, the hearing will adjourn no later than 12 noon; no hearing is scheduled for Monday, April 29, 2002 and, as the hearing proceeds, the Board may make changes in the foregoing schedule, modifying the times for each day's session or canceling a session, as deemed appropriate to allow for witnesses' availability and other matters arising during the course of the proceeding.

Documents related to this proceeding issued prior to December 1, 1999, are available in microfiche form (with print form available on one-day recall) for public inspection at the Commission's Public Document Room (PDR), Room 0-1 F21, NRC One White Flint North, 11555 Rockville Pike, Rockville, Maryland 20852-2738. Documents issued subsequent to November 1, 1999 are available electronically through the Agency wide Documents Access and Management System (ADAMS), with access to the public through NRC's Internet Web site (Public Electronic Reading Room Link, <http://www.nrc.gov/NRC/ADAMS/index.html>). The PDR and many public libraries have terminals for public access to the Internet.

It is so Ordered.

For the Atomic Safety and Licensing Board.
Dated in Rockville, Maryland, on March 25, 2002.
Charles Bechhoefer,
Administrative Judge.

[FR Doc. 02-7603 Filed 3-28-02; 8:45 am]

BILLING CODE 7590-01-P